COMMITTEE FOR THE IMPLEMENTATION OF TEXTILE AGREEMENTS

Determination Under the African Growth and Opportunity Act

June 30, 2005.

AGENCY: Committee for the Implementation of Textile Agreements (CITA)

ACTION: Directive to the Commissioner of Customs and Border Protection

SUMMARY: The Committee for the Implementation of Textile Agreements (CITA) has determined that certain textile and apparel goods from Ethiopia shall be treated as “handloomed, handmade, or folklore articles” and qualify for preferential treatment under the African Growth and Opportunity Act. Imports of eligible products from Ethiopia with an appropriate visa will qualify for duty-free treatment.

EFFECTIVE DATE: July 18, 2005.

FOR FURTHER INFORMATION CONTACT: Anna Flaaten, International Trade Specialist, Office of Textiles and Apparel, U.S. Department of Commerce, (202) 482-3400.

SUPPLEMENTARY INFORMATION: The African Growth and Opportunity Act (Title I of the Trade and Development Act of 2000, Pub. L. No. 106-200) (AGOA) provides preferential tariff treatment for imports of certain textile and apparel products of beneficiary sub-Saharan African countries, including hand-loomed, handmade, or folklore articles of a beneficiary country that are certified as such by the competent authority in the beneficiary country. In Executive Order 13191, the President authorized CITA to consult with beneficiary sub-Saharan African countries and to determine which, if any, particular textile and apparel goods shall be treated as being hand-loomed, handmade, or folklore articles. (66 FR 7272)

In a letter to the Commissioner of Customs dated January 18, 2001, the United States Trade Representative directed Customs to require that importers provide an appropriate export visa from a beneficiary sub-Saharan African country to obtain preferential treatment under section 112(a) of the AGOA (66 FR 7837). The first digit of the visa number corresponds to one of nine groupings of textile and apparel products that are eligible for preferential tariff treatment. Grouping “9” is reserved for handmade, hand-loomed, or folklore articles.

CITA has consulted with Ethiopian authorities and has determined that hand-loomed fabrics, hand-loomed articles (e.g., hand-loomed rugs, scarves, place mats, and tablecloths), handmade articles made from hand-loomed fabrics, and the folklore articles described in the annex to this notice, if produced in and exported from Ethiopia, are eligible for preferential tariff treatment under section 112(a) of the AGOA. In the letter published below, CITA directs the Commissioner of Customs and Border Protection to allow duty-free entry of such products under U.S. Harmonized Tariff Schedule subheading 9819.11.27 if accompanied by an appropriate AGOA visa in grouping “9”.

James C. Leonard III,
Chairman, Committee for the Implementation of Textile Agreements.

Committee for the Implementation of Textile Agreements

June 30, 2005.

Commissioner,

Bureau of Customs and Border Protection, Washington, DC 20229.

Dear Commissioner: The Committee for the Implementation of Textiles Agreements (CITA), pursuant to Sections 112(a) of the African Growth and Opportunity Act (Title I of Pub. L. No. 106-200) (AGOA) and Executive Order 13191 of January 17, 2001, has determined, effective on July 18, 2005, that the following articles shall be treated as “handloomed, handmade, and folklore articles” under the AGOA: (a) handloomed fabrics, handloomed articles (e.g., handloomed rugs, scarves, placemats, and tablecloths), and hand-made articles made from handloomed fabrics, if made in Ethiopia from fabric handloomed in Ethiopia; and (b) the folklore articles described in the attached annex if made in Ethiopia. Such articles are eligible for duty-free treatment only if entered under subheading 9819.11.27 and accompanied by a properly completed visa for product grouping “9”, in accordance with the provisions of the Visa Arrangement between the Government of Ethiopia and the Government of the United States Concerning Textile and Apparel Articles Claiming Preferential Tariff Treatment under Section 112 of the Trade and Development Act of 2000. After additional consultations with Ethiopian authorities, CITA may determine that additional textile and apparel goods shall be treated as folklore articles.

Sincerely,

James C. Leonard III,

Chairman, Committee for the Implementation of Textile Agreements.

ANNEX

CITA has determined that the following textile and apparel goods shall be treated as folklore articles for purposes of the AGOA if made in Ethiopia. Articles must be ornamented in characteristic Ethiopian or regional folk style. An article may not include modern features such as zippers, elastic, elasticized fabrics, or hook-and-pile fasteners (such as velcroc or similar holding fabric). An article may not incorporate patterns that are not traditional or historical to Ethiopia, such as airplanes, buses, cowboys, or cartoon characters and may not incorporate designs referencing holidays or festivals not common to traditional Ethiopian culture, such as Halloween and Thanksgiving. Typical Ethiopian designs may use, but are not limited to, geometric shapes and diamond-shaped or modified diamond-shaped crosses.

Eligible folklore articles:

(a) Shema Borsa (Hand-woven bag/pouch)

Shema Borsas are made of relatively thick cotton hand-woven fabric on the exterior with or without an inside lining that is generally machine-woven fabric, and may be hand- or machine-stitched together. The Shema Borsas are typically 10 - 14 inches wide and 10 - 14 inches tall decorated with features including typical small geometrical diamond-shaped patterns, which can be woven into the fabric itself or ornamented with strips of woven silk in geometric shapes, braided silk appliqués, small shells, nuts, silver jewelry, beads, or fringe. The Shema Borsa may or may not have a fold over flap and have carrying strap(s) and may come with or without closures such as a small strip of decorative fabric looping around a shell, bead or nut.

(b) Sofa Trase Libse (cushion covers/pillow covers)

The Sofa Trase Libse is made of hand-woven material on the front face, often backed with machine made woven or non-woven fabric for support and machine-stitched together, typically 12 - 18 inches tall and wide. Sofa Trase Libses are decorated with typical geometric diamond-shaped designs, may be embroidered, and are slotted in the back as an opening or slotted with a closure of button(s).

[FR Doc. E5-3590 Filed 7-7-05; 8:45 am]

BILLING CODE 3510-DS-S